DEPARTMENT OF ENERGY

Federal Energy Regulatory Commission

Combined Notice of Filings #3

Take notice that the Commission received the following electric rate filings:

Docket Numbers: ER21-964-002

Applicants: Microsoft Energy LLC.

Description: Compliance filing: Notice of Change in Status, Revised Market-Based Rate Tariff to be effective 7/31/2025.

Filed Date: 7/30/25.

Accession Number: 20250730-5133.

Comment Date: 5 p.m. ET 8/20/25.

Docket Numbers: ER25-451-004; ER10-3116-016; ER10-3120-019; ER10-3128-018; ER10-3145-020; ER11-2701-021; ER15-760-022; ER15-762-025; ER15-1579-023; ER15-1582-024; ER15-1914-025; ER15-2680-021; ER16-468-019; ER16-474-020; ER16-890-020; ER16-1255-022; ER16-1738-019; ER16-1901-019; ER16-1955-019; ER16-1956-019; ER16-1973-019; ER16-2201-018; ER16-2224-018; ER16-2578-019; ER17-306-018; ER17-544-018; ER17-1864-017; ER17-1871-017; ER17-1909-017; ER18-1667-014; ER18-2492-015; ER19-846-014; ER19-847-014; ER19-1473-009; ER19-1474-008; ER19-2395-003; ER20-902-011; ER20-1620-011; ER20-1629-012; ER20-2065-009; ER20-2066-009; ER20-2519-008; ER21-1488-009; ER21-2156-009; ER21-2766-008; ER22-414-012; ER22-799-009; ER23-48-007; ER23-495-012; ER23-937-006; ER23-1165-005; ER23-1319-006; ER23-1589-006; ER23-1668-007; ER23-1669-007; ER23-2440-005; ER23-2441-006; ER24-55-006; ER24-1035-006; ER24-1697-004; ER24-1698-005; ER24-2148-004.

Applicants: McFarland Storage C, LLC, AES ES Alamitos 2, LLC, AES Westwing II ES, LLC, 20SD 8me LLC, Silver Peak Energy, LLC, Chevelon Butte RE II LLC, McFarland Solar B, LLC, Raceway Solar 1, LLC, Estrella Solar, LLC, AES ES Westwing, LLC, Baldy Mesa Solar, LLC, McFarland Solar A, LLC, Chevelon Butte RE LLC, AES CE Solutions, LLC, West Line Solar, LLC, Lancaster Area Battery Storage, LLC, AES Marketing and Trading, LLC, Central Line Solar, LLC, Antelope Expansion 1B, LLC, Luna Storage, LLC, East Line Solar, LLC, Antelope Expansion 3B, LLC, Antelope Expansion 3A, LLC, AES ES Alamitos, LLC, AES Solutions Management, LLC, sPower Energy Marketing LLC, AES Integrated Energy, LLC, AES Huntington Beach Energy, LLC, AES Alamitos Energy, LLC, San Pablo Raceway, LLC, Antelope DSR 3, LLC, FTS Master Tenant 2, LLC, Antelope Expansion 2, LLC, Bayshore Solar C, LLC, Bayshore Solar B, LLC, Bayshore Solar A, LLC, Beacon Solar 1, LLC, Beacon Solar 3, LLC, North Lancaster Ranch LLC, Solverde 1, LLC, Antelope DSR 1, LLC, Western Antelope Blue Sky Ranch B LLC, Western Antelope Dry Ranch LLC, Antelope DSR 2, LLC, Elevation Solar C LLC, Beacon Solar 4, LLC, Antelope Big Sky Ranch LLC, Summer Solar LLC, Central Antelope Dry Ranch C LLC,FTS Master Tenant 1, LLC, Sandstone Solar LLC,87RL 8me LLC,65HK 8me LLC,67RK 8me LLC, Sierra Solar Greenworks LLC, Western Antelope Blue Sky Ranch A LLC, Mountain View Power Partners IV, LLC, AES Alamitos, LLC, AES Redondo Beach, L.L.C., AES Huntington Beach, L.L.C., AES Energy Storage, LLC, 50LW 8me LLC.

Description: Notice of Change in Status of 50LW 8me LLC, et al.

Filed Date: 7/29/25.

Accession Number: 20250729-5182.

Comment Date: 5 p.m. ET 8/19/25.

Docket Numbers: ER25-3031-000.

Applicants: Evergreen Wind Power II, LLC.

Description: Petition for Limited Waiver of Evergreen Wind Power II, LLC.

Filed Date: 7/30/25.

Accession Number: 20250730-5124.

Comment Date: 5 p.m. ET 8/20/25.

Docket Numbers: ER25-3032-000.

Applicants: Louisville Gas and Electric Company.

Description: 205(d) Rate Filing: KYMEA Provisional Large Generator Interconnection Agreement to be effective 7/28/2025.

Filed Date: 7/30/25.

Accession Number: 20250730-5136.

Comment Date: 5 p.m. ET 8/20/25.

Docket Numbers: ER25-3033-000.

Applicants: AEP Texas Inc.

Description: Tariff Amendment: AEPTX-Garcitas Creek Solar Generation Interconnection Agreement Cancellation to be effective 7/18/2025.

Filed Date: 7/30/25.

Accession Number: 20250730-5138.

Comment Date: 5 p.m. ET 8/20/25.

The filings are accessible in the Commission's eLibrary system by clicking on the links or querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: July 30, 2025.
Carlos D. Clay,
Deputy Secretary.

[FR Doc. 2025-14699 Filed 8-1-25; 8:45 am]

BILLING CODE 6717-01-P